DEPARTMENT OF COMMERCE

National Oceanic and Atmospheric Administration

[I.D. 020706A]

Fisheries Off West Coast States and in the Western Pacific; Pacific Coast Groundfish Fishery; Application for an Exempted Fishing Permit

AGENCY: National Marine Fisheries Service (NMFS), National Oceanic and Atmospheric Administration (NOAA), Commerce.

ACTION: Notice; receipt of exempted fishing permit (EFP) application; announcement of the intent to issue the EFP; request for comments.

SUMMARY: NMFS announces the receipt of applications, and the intent to issue EFPs for vessels participating in an observation program to monitor the incidental take of salmon and groundfish in the shore-based component of the Pacific whiting fishery. The EFPs are necessary to allow trawl vessels fishing for Pacific whiting to delay sorting their catch, and thus to retain prohibited species and groundfish in excess of cumulative trip limits, until the point of offloading. These activities are otherwise prohibited by Federal regulations.

DATES: Comments must be received by February 28, 2006. The EFPs will be effective no earlier than March 15, 2006, and would expire no later than May 31, 2007, but could be terminated earlier under terms and conditions of the EFPs and other applicable laws.

ADDRESSES: Send comments or requests for copies of the EFP applications to Becky Renko, Northwest Region, NMFS, 7600 Sand Point Way N.E., Bldg. 1, Seattle, WA 98115 0070 or e-mail 2006WhitingEFP.nwr@noaa.gov. Comments sent via email, including all attachments, must not exceed a 10 megabyte file size.

FOR FURTHER INFORMATION CONTACT: Becky Renko at (206)526 6110.

SUPPLEMENTARY INFORMATION: This action is authorized by the Magnuson-Stevens Fishery Conservation and Management Act provisions at 50 CFR 600.745, which state that EFPs may be used to authorize fishing activities that would otherwise be prohibited. At the November 2005 Pacific Fishery Management Council (Pacific Council) meeting in San Diego, California, the Pacific Council received applications for these EFPs from Del Mar Seafoods, Inc. and the States of Washington, Oregon, and California. An opportunity for public testimony was provided during the Pacific Council meeting. The Pacific Council recommended that NMFS issue the EFPs, as requested by Del Mar Seafoods Inc. and the States, and forwarded the EFP applications to NMFS. NMFS is working with Del Mar Seafoods, Inc., the States, and participants who will be fishing under the EFP to resolve funding, retention, and monitoring issues affecting this EFP.

Issuance of these EFPs, to about 40 vessels, will continue an ongoing program to collect information on the incidental catch of salmon and groundfish in whiting harvests delivered to shore-based processing facilities by domestic trawl vessels. Because whiting flesh deteriorates rapidly once the fish are caught, whiting must be minimally handled and immediately chilled to maintain the flesh quality. As a result, many vessels dump catch directly or near directly into the hold and are unable to effectively sort their catch.

The issuance of EFPs will allow vessels to delay sorting of groundfish catch in excess of cumulative trip limits and prohibited species until offloading. These activities are otherwise prohibited by regulation. In 2004 and 2005, NMFS provided electronic monitoring systems to catcher vessels fishing under the whiting EFP as part of a pilot study to evaluate if these systems would be useful tools to verify retention and/or document discard at sea. Based on the results from the 2004 and 2005 pilot studies, electronic monitoring systems may be useful tools to monitor retention and discard at sea. NMFS will continue to evaluate the usefulness of electronic monitoring tools during the 2006 whiting EFP and once again intends to provide electronic monitoring systems to participating vessels.

Delaying sorting until offloading will allow samplers located at the processing facilities to collect incidental catch data for total catch estimates and will enable whiting quality to be maintained. Without an EFP, groundfish regulations at 50 CFR 660.306(a)(2) require vessels to sort their prohibited species catch and return them to sea as soon as practicable with minimum injury. Similarly, regulations at 50 CFR 660.306(a)(10) prohibit the retention of groundfish in excess of the published trip limits.

In addition to providing information that will be used to monitor the attainment of the shore-based whiting allocation, information gathered through these EFPs is expected to be used in a future rulemaking. In the near future, NMFS is considering implementing, through Federal regulation, a monitoring program for the shore-based Pacific whiting fleet. The Pacific Council recommended using EFPs only until a permanent monitoring program could be developed and implemented. NMFS is developing a preliminary draft Environmental Assessment that includes a range of alternative monitoring systems for the shore-based Pacific whiting fishery. At its June 2004 meeting, the Pacific Council considered a preliminary range of alternatives for a shore-based fishery monitoring program. Based on information learned during the 2004 and 2005 EFPs, NMFS is revising that range of alternatives and is tentatively scheduled to present a revised range of alternatives to the Pacific Council at their April 2006 meeting. Provided the Pacific Council adopts the revised range of alternatives for public review in April, the Pacific Council is tentatively expected to make final recommendations to NMFS regarding this monitoring program at its June 2006 meeting. NMFS would then publish a proposed rule, which would include a public comment period, followed by a final rule implementing a monitoring program before the start of the 2007 shore-based primary Pacific whiting season.

Authority: 16 U.S.C. 1801 et seq.

Dated: February 7, 2006.
Alan D. Risenhoover,
Acting Director, Office of Sustainable Fisheries, National Marine Fisheries Service.

[FR Doc. E6-1916 Filed 2-10-06; 8:45 am]

BILLING CODE 3510-22-S